DEPARTMENT OF ENERGY

Federal Energy Regulatory Commission

Combined Notice of Filings #2

Take notice that the Commission received the following electric rate filings:

Docket Numbers: ER14-736-000.

Applicants: Saranac Power Partners, L.P.

Description: Saranac Power Partners, L.P. submits Amendment to Market Based Rate Tariff to be effective 12/19/2013.

Filed Date: 12/20/13.

Accession Number: 20131220-5057.

Comments Due: 5 p.m. ET 1/10/14.

Docket Numbers: ER14-737-000.

Applicants: Vulcan/BN Geothermal Power Company.

Description: Vulcan/BN Geothermal Power Company submits Amendment to Market Based Rate Tariff to be effective 12/19/2013.

Filed Date: 12/20/13.

Accession Number: 20131220-5067.

Comments Due: 5 p.m. ET 1/10/14.

Docket Numbers: ER14-738-000.

Applicants: Yuma Cogeneration Associates.

Description: Yuma Cogeneration Associates submits Amendment to Market Based Rate Tariff to be effective 12/19/2013.

Filed Date: 12/20/13.

Accession Number: 20131220-5070.

Comments Due: 5 p.m. ET 1/10/14.

Docket Numbers: ER14-739-000.

Applicants: AV Solar Ranch 1, LLC.

Description: AV Solar Ranch 1, LLC submits Order No. 784 Compliance Filing to be effective 12/21/2013.

Filed Date: 12/20/13.

Accession Number: 20131220-5079.

Comments Due: 5 p.m. ET 1/10/14.

Docket Numbers: ER14-740-000.

Applicants: Agua Caliente Solar, LLC.

Description: Agua Caliente Solar, LLC submits Amendment to Market Based Rate Tariff to be effective 12/19/2013.

Filed Date: 12/20/13.

Accession Number: 20131220-5081.

Comments Due: 5 p.m. ET 1/10/14.

Docket Numbers: ER14-741-000.

Applicants: Cassia Gulch Wind Park, LLC.

Description: Cassia Gulch Wind Park, LLC submits Order No. 784 Compliance Filing to be effective 12/21/2013.

Filed Date: 12/20/13.

Accession Number: 20131220-5082.

Comments Due: 5 p.m. ET 1/10/14.

Docket Numbers: ER14-742-000.

Applicants: CER Generation, LLC.

Description: CER Generation, LLC submits Order No. 784 Compliance Filing to be effective 12/21/2013.

Filed Date: 12/20/13.

Accession Number: 20131220-5083.

Comments Due: 5 p.m. ET 1/10/14.

Docket Numbers: ER14-743-000.

Applicants: Bishop Hill Energy II LLC.

Description: Bishop Hill Energy II LLC submits Amendment to Market Based Rate Tariff to be effective 12/19/2013.

Filed Date: 12/20/13.

Accession Number: 20131220-5088.

Comments Due: 5 p.m. ET 1/10/14.

Docket Numbers: ER14-744-000.

Applicants: CER Generation II, LLC.

Description: CER Generation II, LLC submits Order No. 784 Compliance Filing to be effective 12/21/2013.

Filed Date: 12/20/13.

Accession Number: 20131220-5089.

Comments Due: 5 p.m. ET 1/10/14.

Docket Numbers: ER14-745-000.

Applicants: Cordova Energy Company LLC.

Description: Cordova Energy Company LLC submits Amendment to Market Based Rate Tariff to be effective 12/19/2013.

Filed Date: 12/20/13.

Accession Number: 20131220-5090.

Comments Due: 5 p.m. ET 1/10/14.

Docket Numbers: ER14-746-000.

Applicants: Commonwealth Edison Company.

Description: Commonwealth Edison Company submits Order No. 784 Compliance Filing and Cancellation of Form of Service Agreement to be effective 12/21/2013.

Filed Date: 12/20/13.

Accession Number: 20131220-5091.

Comments Due: 5 p.m. ET 1/10/14.

Docket Numbers: ER14-747-000.

Applicants: Pinyon Pines Wind I, LLC.

Description: Pinyon Pines Wind I, LLC submits Amendment to Market Based Rate Tariff to be effective 12/19/2013.

Filed Date: 12/20/13.

Accession Number: 20131220-5092.

Comments Due: 5 p.m. ET 1/10/14.

Docket Numbers: ER14-748-000.

Applicants: Pinyon Pines Wind II, LLC.

Description: Pinyon Pines Wind II, LLC submits Amendment to Market Based Rate Tariff to be effective 12/19/2013.

Filed Date: 12/20/13.

Accession Number: 20131220-5093.

Comments Due: 5 p.m. ET 1/10/14.

Docket Numbers: ER14-749-000.

Applicants: Constellation Mystic Power, LLC.

Description: Constellation Mystic Power, LLC submits Order No. 784 Compliance Filing to be effective 12/21/2013.

Filed Date: 12/20/13.

Accession Number: 20131220-5096.

Comments Due: 5 p.m. ET 1/10/14.

Docket Numbers: ER14-750-000.

Applicants: Constellation NewEnergy, Inc.

Description: Constellation NewEnergy, Inc. submits Order No. 784 Compliance Filing to be effective 12/21/2013.

Filed Date: 12/20/13.

Accession Number: 20131220-5097.

Comments Due: 5 p.m. ET 1/10/14.

Docket Numbers: ER14-751-000.

Applicants: Solar Star California XIX, LLC.

Description: Solar Star California XIX, LLC submits Amendment to Market Based Rate Tariff to be effective 12/19/2013.

Filed Date: 12/20/13.

Accession Number: 20131220-5098.

Comments Due: 5 p.m. ET 1/10/14.

Docket Numbers: ER14-752-000.

Applicants: Cow Branch Wind Power, LLC.

Description: Cow Branch Wind Power, LLC submits Order No. 784 Compliance Filing to be effective 12/21/2013.

Filed Date: 12/20/13.

Accession Number: 20131220-5099.

Comments Due: 5 p.m. ET 1/10/14.

Docket Numbers: ER14-753-000.

Applicants: Solar Star California XX, LLC.

Description: Solar Star California XX, LLC submits Amendment to Market Based Rate Tariff to be effective 12/19/2013.

Filed Date: 12/20/13.

Accession Number: 20131220-5100.

Comments Due: 5 p.m. ET 1/10/14.

Docket Numbers: ER14-754-000.

Applicants: CR Clearing, LLC.

Description: CR Clearing, LLC submits Order No. 784 Compliance Filing to be effective 12/21/2013.

Filed Date: 12/20/13.

Accession Number: 20131220-5101.

Comments Due: 5 p.m. ET 1/10/14.

Docket Numbers: ER14-755-000.

Applicants: Topaz Solar Farms LLC.

Description: Topaz Solar Farms LLC submits Amendment to Market Based Rate Tariff to be effective 12/19/2013.

Filed Date: 12/20/13.

Accession Number: 20131220-5102.

Comments Due: 5 p.m. ET 1/10/14.

Docket Numbers: ER14-756-000.

Applicants: Exelon Framingham, LLC.

Description: Exelon Framingham, LLC submits Order No. 784 Compliance Filing to be effective 12/21/2013.

Filed Date: 12/20/13.

Accession Number: 20131220-5103.

Comments Due: 5 p.m. ET 1/10/14.

Docket Numbers: ER14-757-000.

Applicants: Exelon New Boston, LLC.

Description: Exelon New Boston, LLC submits Order No. 784 Compliance Filing to be effective 12/21/2013.

Filed Date: 12/20/13.

Accession Number: 20131220-5104.

Comments Due: 5 p.m. ET 1/10/14.

Docket Numbers: ER14-758-000.

Applicants: Exelon Generation Company, LLC.

Description: Exelon Generation Company, LLC submits Order No. 784 Compliance Filing to be effective 12/21/2013.

Filed Date: 12/20/13.

Accession Number: 20131220-5105.

Comments Due: 5 p.m. ET 1/10/14.

Docket Numbers: ER14-759-000.

Applicants: Exelon West Medway, LLC.

Description: Exelon West Medway, LLC submits Order No. 784 Compliance Filing to be effective 12/21/2013.

Filed Date: 12/20/13.

Accession Number: 20131220-5106.

Comments Due: 5 p.m. ET 1/10/14.

Docket Numbers: ER14-760-000.

Applicants: Exelon Wind 4, LLC.

Description: Exelon Wind 4, LLC submits Order No. 784 Compliance Filing to be effective 12/21/2013.

Filed Date: 12/20/13.

Accession Number: 20131220-5107.

Comments Due: 5 p.m. ET 1/10/14.

Docket Numbers: ER14-761-000.

Applicants: Exelon Wyman, LLC.

Description: Exelon Wyman, LLC submits Order No. 784 Compliance Filing to be effective 12/21/2013.

Filed Date: 12/20/13.

Accession Number: 20131220-5108.

Comments Due: 5 p.m. ET 1/10/14.

Docket Numbers: ER14-762-000.

Applicants: Handsome Lake Energy, LLC.

Description: Handsome Lake Energy, LLC submits Order No. 784 Compliance Filing to be effective 12/21/2013.

Filed Date: 12/20/13.

Accession Number: 20131220-5109.

Comments Due: 5 p.m. ET 1/10/14.

Docket Numbers: ER14-763-000.

Applicants: Harvest Windfarm, LLC.

Description: Harvest Windfarm, LLC submits Order No. 784 Compliance Filing to be effective 12/21/2013.

Filed Date: 12/20/13.

Accession Number: 20131220-5111.

Comments Due: 5 p.m. ET 1/10/14.

Docket Numbers: ER14-764-000.

Applicants: High Mesa Energy, LLC.

Description: High Mesa Energy, LLC submits Order No. 784 Compliance Filing to be effective 12/21/2013.

Filed Date: 12/20/13.

Accession Number: 20131220-5118.

Comments Due: 5 p.m. ET 1/10/14.

Docket Numbers: ER14-765-000.

Applicants: Nine Mile Point Nuclear Station, LLC.

Description: Nine Mile Point Nuclear Station, LLC submits Order No. 784 Compliance Filing to be effective 12/21/2013.

Filed Date: 12/20/13.

Accession Number: 20131220-5121.

Comments Due: 5 p.m. ET 1/10/14.

Docket Numbers: ER14-766-000.

Applicants: Public Service Company of Colorado.

Description: Public Service Company of Colorado submits 2013-12-20 SPP IM Joint OATT Filing to be effective 3/1/2014.

Filed Date: 12/20/13.

Accession Number: 20131220-5122.

Comments Due: 5 p.m. ET 1/10/14.

Docket Numbers: ER14-767-000.

Applicants: PECO Energy Company.

Description: PECO Energy Company submits Order No. 784 Compliance Filing to be effective 12/21/2013.

Filed Date: 12/20/13.

Accession Number: 20131220-5123.

Comments Due: 5 p.m. ET 1/10/14.

Docket Numbers: ER14-768-000.

Applicants: R.E. Ginna Nuclear Power Plant, LLC.

Description: R.E. Ginna Nuclear Power Plant, LLC submits Order No. 784 Compliance Filing to be effective 12/21/2013.

Filed Date: 12/20/13.

Accession Number: 20131220-5125.

Comments Due: 5 p.m. ET 1/10/14.

Docket Numbers: ER14-769-000.

Applicants: Tuana Springs Energy, LLC.

Description: Tuana Springs Energy, LLC submits Order No. 784 Compliance Filing to be effective 12/21/2013.

Filed Date: 12/20/13.

Accession Number: 20131220-5130.

Comments Due: 5 p.m. ET 1/10/14.

Docket Numbers: ER14-770-000.

Applicants: Wind Capital Holdings, LLC.

Description: Wind Capital Holdings, LLC submits Order No. 784 Compliance Filing to be effective 12/21/2013.

Filed Date: 12/20/13.

Accession Number: 20131220-5132.

Comments Due: 5 p.m. ET 1/10/14.

Docket Numbers: ER14-771-000.

Applicants: Power Resources, Ltd.

Description: Power Resources, Ltd. submits Amendment to Market Based Rate Tariff to be effective 12/19/2013.

Filed Date: 12/20/13.

Accession Number: 20131220-5137.

Comments Due: 5 p.m. ET 1/10/14.

Docket Numbers: ER14-772-000.

Applicants: Fortistar North Tonawanda Inc.

Description: Fortistar North Tonawanda Inc. submits FERC Electric Tariff No. 1—Fortistar North Tonawanda Inc to be effective 12/20/2013.

Filed Date: 12/20/13.

Accession Number: 20131220-5167.

Comments Due: 5 p.m. ET 1/10/14.

Docket Numbers: ER14-773-000.

Applicants: Alabama Power Company.

Description: Alabama Power Company submits Attachment C Amendment Filing to be effective 12/19/2013.

Filed Date: 12/20/13.

Accession Number: 20131220-5182.

Comments Due: 5 p.m. ET 1/10/14.

The filings are accessible in the Commission's eLibrary system by clicking on the links or querying the docket number.

Any person desiring to intervene or protest in any of the above proceedings must file in accordance with Rules 211 and 214 of the Commission's Regulations (18 CFR 385.211 and 85.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2013.
Nathaniel J. Davis, Sr.,
Deputy Secretary.

[FR Doc. 2013-31383 Filed 12-31-13; 8:45 am]

BILLING CODE 6717-01-P